DEPARTMENT OF COMMERCE

International Trade Administration

Export Trade Certificate of Review

ACTION: Notice of issuance of an amended Export Trade Certificate of Review, Application No. 97-7A003.

SUMMARY: The U.S. Department of Commerce has issued an amendment to the Export Trade Certificate of Review granted to the Association for the Administration of Rice Quotas, Inc. (“AARQ”) on March 3, 2004. Notice of issuance of the original Certificate was published in the Federal Register on January 28, 1998 (63 FR 4220).

FOR FURTHER INFORMATION CONTACT: Jeffrey C. Anspacher, Director, Office of Export Trading Company Affairs, International Trade Administration, by telephone at (202) 482-5131 (this is not a toll-free number), or by e-mail at oetca@ita.doc.gov.

SUPPLEMENTARY INFORMATION: Title III of the Export Trading Company Act of 1982 (15 U.S.C. 4001-21) authorizes the Secretary of Commerce to issue Export Trade Certificates of Review. The regulations implementing Title III are found at 15 CFR part 325 (2004).

The Office of Export Trading Company Affairs (“OETCA”) is issuing this notice pursuant to 15 CFR 325.6(b), which requires the Department of Commerce to publish a summary of the certification in the Federal Register. Under section 305(a) of the Act and 15 CFR 325.11(a), any person aggrieved by the Secretary's determination may, within 30 days of the date of this notice, bring an action in any appropriate district court of the United States to set aside the determination on the grounds that the determination is erroneous.

Description of Amended Certificate

Export Trade Certificate of Review No. 97-00003, was issued to AARQ on January 21, 1998 (63 FR 4220, January 28, 1998) and last amended November 19, 2002 (68 FR 8739, February 25, 2003).

AARQ's Export Trade Certificate of Review has been amended to:

1. Add each of the following companies as a new “Member” of the Certificate within the meaning of § 325.2(l) of the Regulations (15 CFR 325.2(l)): Itochu International Inc., New York, New York (a subsidiary of Itochu Corporation, Tokyo, Japan); and Veetee Rice Inc., Springfield, Virginia (a subsidiary of Veetee Investments, Nassau, Bahamas).

2. Change the listing of the following Members: “California Commodity Traders, LLC, Robbins, California, and its affiliate American Commodity Company, LLC, Robbins, California” to read “American Commodity Company, LLC, Robbins, California”; “Cargill Americas, Inc., Wayzata, Minnesota” to read “Cargill Americas, Inc., Coral Gables, Florida”; “ConAgra Foods, Inc., Omaha, Nebraska, and its subsidiary, Alliance Grain, Inc., Voorhees, New Jersey” to read “ConAgra Foods, Inc., Omaha, Nebraska, and its subsidiary, Alliance Grain, Inc., Marlton, New Jersey”; “Gulf Pacific, Inc., and its subsidiaries, Gulf Pacific Rice Co., Inc., and Gulf Rice Milling, Inc., Houston, Texas” to read “Gulf Pacific Rice Co., Inc., Gulf Rice Milling, Inc., Houston, Texas, and Harvest Rice, Inc., McGehee, Arkansas (each a subsidiary of Gulf Pacific, Inc., Houston, Texas)”; “Rickmers Rice USA, Inc., St. Louis, Missouri” to read “Rickmers Rice USA, Inc., Knoxville, Tennessee”; “Sunshine Rice, Inc., Stockton, California (a subsidiary of Sunshine Business Enterprise, Inc.)” to read “KD International Trading, Inc., Stockton, California (a subsidiary of Sunshine Business Enterprises, Inc.)”; and “Uncle Ben's Inc., Greenville, Mississippi” to read “Masterfoods USA a Mars, Incorporated Company, Greenville, Mississippi.”

The effective date of the amended certificate is December 4, 2003. A copy of the amended certificate will be kept in the International Trade Administration's Freedom of Information Records Inspection Facility, Room 4102, U.S. Department of Commerce, 14th Street and Constitution Avenue, NW., Washington, DC 20230.

Dated: March 11, 2004.
Jeffrey A. Anspacher,
Director, Office of Export Trading Company Affairs.

[FR Doc. 04-6072 Filed 3-17-04; 8:45 am]

BILLING CODE 3510-DR-P